DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Union Pacific Railroad Company

[Waiver Petition Docket Number FRA-2004-17565]

The Union Pacific Railroad Company (UPRR) seeks an amendment to an existing waiver of compliance from certain provisions of Title 49 CFR parts 231 and 232, concerning the operation of RoadRailer® and RailRunner® equipment on their railroad. Subject to certain conditions, the existing waiver in this docket authorizes UPRR to operate RoadRailer equipmen on their railroad. UPRR now seeks relief from certain provisions of the Railroad Safety Appliance Standards in Title 49 CFR part 231, that stipulate the number, location, and dimensions for handholds, ladders, sill steps, uncoupling levers, and handbrakes to operate RailRunner equipment commingled with RoadRailer equipment. UPRR also seeks relief from Title 49 CFR 231.31, which sets the standard height for drawbars. UPRR states that this relief is necessary to allow them to operate and commingle the RoadRailer® and RailRunner® equipment on dedicated trains operating from Chicago, Illinois, to Minneapolis, Minnesota.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-17565) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC on November 15, 2010.
Michael Logue,
Deputy Associate Administrator for Safety Compliance and Program Implementation.

[FR Doc. 2010-29291 Filed 11-19-10; 8:45 am]

BILLING CODE 4910-06-P